DEPARTMENT OF THE TREASURY

United States Mint

Notification of United States Mint Coin Product Price Adjustment

SUMMARY: The United States Mint is announcing the prices of the 2008 American Eagle Gold Uncirculated Coin Program.

Pursuant to the authority that 31 U.S.C. 5111(a) and 5112(a)(7-10) grant the Secretary of the Treasury to mint and issue gold coins, and to prepare and distribute numismatic items, the United States Mint mints and issues 2008 American Eagle Gold Proof and Uncirculated Coins with the following weights: One-ounce, one-half ounce, one-quarter ounce, one-tenth ounce. The United States Mint also produces an American Eagle four-coin set that contains one coin of each denomination.

Because of increases in the cost of gold, the United States Mint will begin accepting orders for 2008 American Eagle Gold Uncirculated Coins at the prices indicated below, effective April 1, 2008:

Description | Price
American Eagle Gold Uncirculated Coins:
One-ounce gold uncirculated coin | $1,119.95
One-half ounce gold uncirculated coin | 565.95
One-quarter ounce gold uncirculated coin | 295.95
One-tenth ounce gold uncirculated coin | 124.95
Four-coin gold uncirculated set | 2,039.95

FOR FURTHER INFORMATION CONTACT: Gloria C. Eskridge, Associate Director for Sales and Marketing; United States Mint; 801 Ninth Street, NW., Washington, DC 20220; or call 202-354-7500.

Authority: 31 U.S.C. 5111, 5112 & 9701.

Dated: March 25, 2008.
Edmund C. Moy,
Director, United States Mint.

[FR Doc. E8-6480 Filed 3-28-08; 8:45 am]

BILLING CODE 4810-02-P